DEPARTMENT OF ENERGY

Basic Energy Sciences Advisory Committee; Meeting

AGENCY: Office of Science, Department of Energy.

ACTION: Notice of open meeting.

SUMMARY: This notice announces a meeting of the Basic Energy Sciences Advisory Committee (BESAC). The Federal Advisory Committee Act requires that public notice of these meetings be announced in the Federal Register.

DATES: Thursday, July 30, 2020; 10:45 a.m. to 4:40 p.m.

ADDRESSES: This meeting is open to the public. This meeting will be held digitally via Zoom. Information to participate can be found on the website closer to the meeting date at: https://science.osti.gov/bes/besac/Meetings.

FOR FURTHER INFORMATION CONTACT: Katie Runkles; Office of Basic Energy Sciences; U.S. Department of Energy; Germantown Building, 1000 Independence Avenue SW, Washington, DC 20585; Telephone: (301) 903-6529; email: Katie.runkles@science.doe.gov.

SUPPLEMENTARY INFORMATION: Purpose of the Board: The purpose of this Board is to make recommendation to DOE-SC with respect to the basic energy sciences research program.

Tentative Agenda:

• Call to Order, Introductions, Review of the Agenda

• News from the Office of Science

• News from the Office of Basic Energy Sciences

• Neutron Subcommittee Draft Report Presentation

• International Benchmarking Study Update

• Chemical Sciences, Geosciences and Biosciences Division COV Meeting Announcement

• Energy Frontier Research Centers/Hub COV Meeting Announcement

• Basic Research Needs Workshop on Transformative Manufacturing Update

• Public Comments

• Adjourn

Breaks Taken As Appropriate

Public Participation: The meeting is open to the public. A webcast of this meeting will be available. Please check the website below for updates and information on how to view the meeting. If you would like to file a written statement with the Committee, you may do so either before or after the meeting. If you would like to make oral statements regarding any of the items on the agenda, you should contact Katie Runkles at katie.runkles@science.doe.gov. You must make your request for an oral statement at least five business days before the meeting. Reasonable provision will be made to include the scheduled oral statements on the agenda. The Chairperson of the Committee will conduct the meeting to facilitate the orderly conduct of business. Public comment will follow the 10-minute rule. Information about the committee can be found at: https://science.osti.gov/bes/besac.

Minutes: The minutes of this meeting will be available for public review and copying within 30 days at the committee's website: https://science.osti.gov/bes/besac.

Signed in Washington, DC on June 19, 2020.
LaTanya Butler,
Deputy Committee Management Officer.

[FR Doc. 2020-13674 Filed 6-24-20; 8:45 am]

BILLING CODE 6450-01-P